DEPARTMENT OF COMMERCE

International Trade Administration

[A-570-912]

Certain New Pneumatic Off-the-Road Tires From the People's Republic of China: Preliminary Results of Antidumping Duty Administrative Review; 2014-2015

AGENCY: Enforcement and Compliance, International Trade Administration, Department of Commerce.

SUMMARY: The Department of Commerce (“Department”) is conducting an administrative review of the antidumping duty order on certain new pneumatic off-the-road tires (“OTR tires”) from the People's Republic of China (“PRC”). The period of review (“POR”) is September 1, 2014, through August 31, 2015. The Department preliminarily finds that Xuzhou Xugong Tyres Co., Ltd. (“Xugong”), Xuzhou Armour Rubber Company Ltd. (“Armour”) and Xuzhou Hanbang Tyre Co., Ltd. (“Hanbang”) (collectively, “Xugong”), made sales of subject merchandise at less than normal value (“NV”) and that Trelleborg Wheel Systems Hebei Co. (“TWS Hebei”) had no shipments during the POR. The Department invites interested parties to comment on this preliminary determination.

DATES: Effective October 14, 2016.

FOR FURTHER INFORMATION CONTACT: Keith Haynes or Mandy Mallott, AD/CVD Operations, Office III, Enforcement and Compliance, International Trade Administration, U.S. Department of Commerce, 1401 Constitution Avenue NW., Washington, DC 20230; telephone: (202) 482-5139 or (202) 482-6430, respectively.

SUPPLEMENTARY INFORMATION:

Background

On November 9, 2015, the Department initiated the seventh administrative review of the antidumping duty order on OTR tires from the PRC.¹ As explained in the memorandum from the Acting Assistant Secretary for Enforcement and Compliance, the Department exercised its discretion to toll all administrative deadlines due to the recent closure of the Federal Government.² Accordingly, all deadlines in this segment of the proceeding have been extended by four business days.³ On May 3, 2016, we extended the time limit for the preliminary results of review by 120 days, pursuant to section 751(a)(3)(A) of the Tariff Act of 1930, as amended (“Act”), to October 5, 2016.⁴ For a complete description of the events that followed the initiation of this administrative review, see the Preliminary Decision Memorandum.⁵ A list of topics included in the Preliminary Decision Memorandum is included as Appendix I.

¹ See Initiation of Antidumping and Countervailing Duty Administrative Review, 80 FR 69193 (November 9, 2016) (“Initiation Notice”).

² See Memorandum to the File from Ron Lorentzen, Acting A/S for Enforcement & Compliance, “Tolling of Administrative Deadlines As a Result of the Government Closure During Snowstorm Jonas” dated January 27, 2016.

³ Id.

⁴ See Memorandum to Christian Marsh, “Certain New Pneumatic Off-the-Road Tires from the People's Republic of China: Extension of Deadline for Preliminary Results of 2014-2015 Antidumping Duty Administrative Review,” dated May 3, 2016.

⁵ See Memorandum from Christian Marsh, Deputy Assistant Secretary for Antidumping and Countervailing Duty Operations, to Ronald K. Lorentzen, Acting Assistant Secretary for Enforcement and Compliance, “Decision Memorandum for Preliminary Results of Antidumping Duty Administrative Review: Certain New Pneumatic Off-the-Road Tires from the People's Republic of China; 2014-2015” (“Preliminary Decision Memorandum”), dated concurrently with and hereby adopted by this notice.

Scope of the Order ⁶

⁶ For a complete description of the scope of the order, see the Preliminary Decision Memorandum.

The merchandise covered by this order includes new pneumatic tires designed for off-the-road and off-highway use, subject to certain exceptions. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive.

Preliminary Determination of No Shipments

On November 17, 2015, TWS Hebei submitted a timely-filed certification indicating that it had no shipments of subject merchandise to the United States during the POR.⁷ Consistent with our practice, the Department asked Customs and Border Protection (“CBP”) to conduct a query on potential shipments made by TWS Hebei.⁸ Based on TWS Hebei's certifications and our analysis of CBP data and rebuttal information, we preliminarily determine that TWS Hebei did not have any reviewable transactions during the POR. For additional information regarding this determination, see the Preliminary Decision Memorandum. Consistent with our assessment practice in non-market economy (“NME”) cases, the Department is not rescinding this review of the company, but intends to complete the review and issue appropriate instructions to CBP based on the final results of the review.⁹

⁷ See Letter from TWS Hebei, “Trelleborg Wheel Systems Hebei Co. Statement of No Shipments during the POR: New Pneumatic Off-The-Road Tires from the People's Republic of China,” dated November 17, 2015.

⁸ See CBP Message Number 6207309, dated July 25, 2016.

⁹ See Non-Market Economy Antidumping Proceedings: Assessment of Antidumping Duties, 76 FR 65694, 65694-95 (October 24, 2011) and the “Assessment Rates” section, below.

Separate Rates

The Department preliminarily determines that information placed on the record by the mandatory respondent Xugong,¹⁰ as well as nine other separate rate applicants, Shiyan Desizheng Industry & Trade Co., Ltd. (“Desizheng”), Qingdao Jinhaoyang International Co., Ltd. (“Jinhaoyang”), Weifang Jintongda Tyre Co., Ltd. (“Jintongda”), Sailun Jinyu Group Co., Ltd. (“Sailun”), Qingdao Free Trade Zone Full-World International Trading Co., Ltd. (“Qingdao FTZ”), Qingdao Qihang Tyre Co. (“Qihang”), Trelleborg Wheel Systems (Xingtai) China, Co. Ltd. (“TWS Xingtai”), Weihai Zhongwei Rubber Co., Ltd. (“Zhongwei”), and Zhongce Rubber Group Company Limited (“Zhongce”), demonstrates that these companies are entitled to separate rate status. For additional information, see the Preliminary Decision Memorandum.

¹⁰ The Department previously collapsed Xugong and its affiliates Armour and Hanbang into a single entity, see Certain New Pneumatic Off-The-Road Tires From The People's Republic Of China: Preliminary Results Of Antidumping Duty Administrative Review; 2013-2014, 80 FR 61166, 61167 (October 9, 2015), unchanged in Certain New Pneumatic Off-the-Road Tires From the People's Republic of China: Final Results of Antidumping Duty Administrative Review; 2013-2014, 81 FR 23272 (April 20, 2016). This decision is unchallenged in the instant review; thus the Department continues to treat Xugong, Armour, and Hanbang as a single entity.

Rate for Non-Examined Companies Which Are Eligible for a Separate Rate

The statute and the Department's regulations do not address the establishment of a rate to be applied to respondents not selected for individual examination when the Department limits its examination of companies subject to the administrative review pursuant to section 777A(c)(2)(B) of the Act. Generally, the Department looks to section 735(c)(5) of the Act, which provides instructions for calculating the all-others rate in an investigation, for guidance when calculating the rate for respondents not individually examined in an administrative review. Section 735(c)(5)(A) of the Act articulates a preference for not calculating an all-others rate using rates which are zero, de minimis or based entirely on adverse facts available (“AFA”).¹¹ Accordingly, the Department's usual practice has been to determine the dumping margin for companies not individually examined by averaging the weighted-average dumping margins for the individually examined respondents, excluding rates that are zero, de minimis, or based entirely on facts available.¹² Consistent with this practice, in this review, we preliminarily calculated a weighted-average dumping margin for Xugong that is above de minimis and not based entirely on AFA; therefore, the Department preliminarily assigns to Desizheng, Jinhaoyang, Jintongda, Sailun, Qingdao FTZ, Qihang, TWS Xingtai, Zhongwei, and Zhongce the weighted-average margin calculated for Xugong as the separate rate for this review.

¹¹ See Ball Bearings and Parts Thereof From France, Germany, Italy, Japan, and the United Kingdom: Final Results of Antidumping Duty Administrative Reviews and Rescission of Reviews in Part, 73 FR 52823, 52824 (September 11, 2008), and accompanying Issues and Decision Memorandum at Comment 16.

¹² See Ball Bearings and Parts Thereof From France, Germany, Italy, Japan, and the United Kingdom: Final Results of Antidumping Duty Administrative Reviews and Rescission of Reviews in Part, 73 FR 52823, 52824 (September 11, 2008), and accompanying Issues and Decision Memorandum at Comment 16.

PRC-Wide Entity

The Department's change in policy regarding conditional review of the PRC-wide entity applies to this administrative review.¹³ Under this policy, the PRC-wide entity will not be under review unless a party specifically requests, or the Department self-initiates, a review of the entity. Because no party requested a review of the PRC-wide entity in this review, the entity is not under review and the entity's rate is not subject to change (i.e., 105.31 percent).¹⁴ Aside from the no shipments and separate rate companies discussed above, the Department considers all other companies for which a review was requested, were not found eligible for a separate rate based on information provided, including Guizhou Tyre Co., Ltd. (“GTC”),¹⁵ Aeolus Tyre Co., Ltd., and Tianjin Leviathan International Trade Co., Ltd., to be part of the PRC-wide entity.¹⁶ For additional information, see the Preliminary Decision Memorandum.

¹³ See Antidumping Proceedings: Announcement of Change in Department Practice for Respondent Selection in Antidumping Duty Proceedings and Conditional Review of the Nonmarket Economy Entity in NME Antidumping Duty Proceedings, 78 FR 65963 (November 4, 2013).

¹⁴ See Certain New Pneumatic Off-the-Road Tires From the People's Republic of China: Final Results of Antidumping Duty Administrative Review; 2012-2013, 80 FR 20197 (April 15, 2015).

¹⁵ The Department notes that it previously collapsed GTC and Guizhou Tyre Import and Export Corporation (“GTCIE”), into a single entity and that that decision is unchallenged in the instant review. See Certain New Pneumatic Off-The-Road Tires From the People's Republic of China; Preliminary Determination of Sales at Less Than Fair Value and Postponement of Final Determination, 73 FR 9278, 9283 (February 20, 2008), unchanged in Certain New Pneumatic Off-The-Road Tires from the People's Republic of China: Final Affirmative Determination of Sales at Less Than Fair Value and Partial Affirmative Determination of Critical Circumstances, 73 FR 40485 (July 15, 2008).

¹⁶ See Preliminary Decision Memorandum. See also Memorandum to the File, “Preliminary Denial of Separate Rates in the Antidumping Duty Administrative Review of New Pneumatic Off-the-Road Tires from the People's Republic of China,” dated concurrently with and hereby adopted by this notice.

Methodology

The Department is conducting this review in accordance with section 751(a)(1)(B) and 751(a)(2)(A) of the Act. Export and constructed export prices were calculated in accordance with sections 772(a) and (b) of the Act. Because the PRC is a nonmarket economy within the meaning of section 771(18) of the Act, normal value (“NV”) has been calculated in accordance with section 773(c).

For a full description of the methodology underlying our conclusions, see the Preliminary Decision Memorandum. The Preliminary Decision Memorandum is a public document and is on file electronically via Enforcement and Compliance's Antidumping and Countervailing Duty Centralized Electronic Service System (“ACCESS”). ACCESS is available to registered users at https://access.trade.gov, and is available to all parties in the Central Records Unit, room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Results of Review

The Department preliminarily determines that the following weighted-average dumping margins exist for the period September 1, 2014, through August 31, 2015:

Exporter | Weighted-average dumping margin (percent)
Xuzhou Xugong Tyres Co., Ltd., Armour Rubber Company Ltd., or Xuzhou Hanbang Tyre Co., Ltd. | 33.58
Shiyan Desizheng Industry & Trade Co., Ltd. | 33.58
Qingdao Jinhaoyang International Co., Ltd. | 33.58
Sailun Jinyu Group Co., Ltd. | 33.58
Weifang Jintongda Tyre Co., Ltd. | 33.58
Zhongce Rubber Group Company Limited | 33.58
Weihai Zhongwei Rubber Co., Ltd. | 33.58
Qingdao Qihang Tyre Co. | 33.58
Qingdao Free Trade Zone Full-World International Trading Co., Ltd. | 33.58
Trelleborg Wheel Systems (Xingtai) China, Co. Ltd. | 33.58

Additionally, the Department preliminarily determines that GTS, Aeolus Tyre CO., Ltd., and Tianjin Leviathan International Trade Co., Ltd., to be a part of the PRC-wide entity.

Disclosure, Public Comment and Opportunity to Request a Hearing

The Department intends to disclose the calculations used in our analysis to parties in this review within five days of the date of publication of this notice in accordance with 19 CFR 351.224(b).

Interested parties may submit case briefs within 30 days after the date of publication of these preliminary results of review in the Federal Register.¹⁷ Rebuttals to case briefs, which must be limited to issues raised in the case briefs, must be filed within five days after the time limit for filing case briefs.¹⁸ Parties who submit arguments are requested to submit with the argument (a) a statement of the issue, (b) a brief summary of the argument, and (c) a table of authorities.¹⁹ Parties submitting briefs should do so pursuant to the Department's electronic filing system, ACCESS.²⁰

¹⁷ See 19 CFR 351.309(c)(1)(ii).

¹⁸ See 19 CFR 351.309(d)(1)-(2).

¹⁹ See 19 CFR 351.309(c)(2), (d)(2).

²⁰ See 19 CFR 351.303 (for general filing requirements).

Any interested party may request a hearing within 30 days of publication of this notice.²¹ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.²²

²¹ See 19 CFR 351.310(c).

²² See 19 CFR 351.310(d).

The Department intends to issue the final results of this administrative review, which will include the results of our analysis of all issues raised in the case briefs, within 120 days of publication of these preliminary results in the Federal Register, pursuant to section 751(a)(3)(A) of the Act.

Assessment Rates

Upon issuance of the final results, the Department will determine, and CBP shall assess, antidumping duties on all appropriate entries covered by this review.²³ The Department intends to issue assessment instructions to CBP 15 days after the publication date of the final results of this review.

²³ See 19 CFR 351.212(b).

For assessment purposes, the Department applied the assessment rate calculation method adopted in Assessment Rate Modification.²⁴ For any individually examined respondent whose weighted average dumping margin is above de minimis (i.e., 0.50 percent) in the final results of this review, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.²⁵ Where either a respondent's weighted average dumping margin is zero or de minimis, or an importer- (or customer-) specific ad valorem rate is zero or de minimis, the Department will instruct CBP to liquidate appropriate entries without regard to antidumping duties.²⁶ For the respondents that were not selected for individual examination in this administrative review and that qualified for a separate rate, the assessment rate will be based on the average of the mandatory respondents.²⁷

²⁴ See Antidumping Proceedings: Calculation of the Weighted-Average Dumping Margin and Assessment Rate in Certain Antidumping Proceedings: Final Modification, 77 FR 8101 (February 14, 2012) (“Assessment Rate Modification”) in the manner described in more detail in the Preliminary Decision Memorandum.

²⁵ See 19 CFR 351.212(b)(1).

²⁶ See 19 CFR 351.106(c)(2).

²⁷ See Preliminary Decision Memorandum.

Pursuant to the Department's practice, for entries that were not reported in the U.S. sales databases submitted by companies individually examined during the administrative review, the Department will instruct CBP to liquidate such entries at the PRC-wide rate. Additionally, if the Department determines that an exporter had no shipments of the subject merchandise, any suspended entries that entered under that exporter's case number (i.e., at that exporter's rate) will be liquidated at the PRC-wide rate.²⁸

²⁸ For a full discussion of this practice, see Non-Market Economy Antidumping Proceedings: Assessment of Antidumping Duties, 76 FR 65694 (October 24, 2011).

Cash Deposit Requirements

The following cash deposit requirements will be effective upon publication of the final results of this review for shipments of the subject merchandise from the PRC entered, or withdrawn from warehouse, for consumption on or after the publication date, as provided by sections 751(a)(2)(C) of the Act: (1) For the companies listed above that have a separate rate, the cash deposit rate will be that established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping and/or countervailing duties prior to liquidation of the relevant entries during the POR. Failure to comply with this requirement could result in the Department's presumption that reimbursement of antidumping and/or countervailing duties occurred and the subsequent assessment of double antidumping duties.

We are issuing and publishing these results in accordance with sections 751(a)(1) and 777(i)(1) of the Act, and 19 CFR 351.221(b)(4).

Dated: October 5, 2016.
Ronald K. Lorentzen,
Acting Assistant Secretary for Enforcement and Compliance.

Appendix I

List of Topics Discussed in the Preliminary Decision Memorandum

I. Summary

II. Background

III. Scope of the Order

IV. Preliminary Determination of No Shipments

V. Discussion of Methodology

A. Non-Market Economy Country

B. Surrogate Country and Surrogate Value Data

C. Surrogate Country

D. Separate Rates

E. Margin for the Companies Individually Examined

F. Margin for the Separate Rate Companies Not Individually Examined

G. Margin for Companies Not Receiving a Separate Rate

H. Date of Sale

I. Comparisons to Normal Value

J. U.S. Price

K. Normal Value

L. Factor Valuations

VI. Adjustment Under Section 777A(f) of the Act

VII. Recommendation

[FR Doc. 2016-24821 Filed 10-13-16; 8:45 am]

BILLING CODE 3510-DS-P